DEPARTMENT OF THE INTERIOR

Bureau of Land Management

[LLCO80200-L10200000.PH0000-212]

Notice of Joint and Individual Colorado Resource Advisory Council Meetings

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Northwest Resource Advisory Council (RAC), Southwest RAC, and Rocky Mountain RAC will meet as indicated below.

DATES: The Northwest, Southwest, and Rocky Mountain RACs have scheduled a joint meeting for May 12, 2021 from 10 a.m. to 3 p.m. (Mountain Time—MT). Individual RAC meetings are as follows: The Southwest RAC meeting is scheduled for May 25, 2021 from 10 a.m. to 3 p.m. (MT); the Northwest RAC meeting is scheduled for May 26, 2021 from 10 a.m. to 3 p.m. (MT); and the Rocky Mountain RAC meeting is scheduled for May 27, 2021 from 10 a.m. to 3 p.m. (MT). Due to public health restrictions, the joint and individual RAC meetings will be held virtually. To register for participation, please visit https://www.blm.gov/get-involved/resource-advisory-council/near-you/colorado.

ADDRESSES: The meetings will be held via the Zoom Webinar Platform. Written comments may be submitted in advance of the individual RAC meetings via email to the individuals and BLM addresses listed below. Please include “RAC Comment” in your submission.

FOR FURTHER INFORMATION CONTACT: Northwest RAC—Chris Maestas, Public Affairs Specialist; BLM Northwest District Office, 455 Emerson St., Craig, CO 81625; telephone: (970) 826-5101; email: cjmaestas@blm.gov. Southwest RAC—Shawn Reinhardt, Public Affairs Specialist; BLM Southwest District Office, 2465 S. Townsend Ave., Montrose, CO, 81401; telephone: (970) 240-5339; email: sreinhardt@blm.gov. Rocky Mountain RAC—Brant Porter, Public Affairs Specialist; BLM Rocky Mountain District Office, 3028 E. Main St., Canon City, CO, 71212; telephone: (719) 269-8553; email: beporter@blm.gov. Persons who use a telecommunications device for the deaf (TDD) may call the Federal Relay Service (FRS) at 1-800-877-8339 to contact the above individuals during normal business hours. The FRS is available 24 hours a day, 7 days a week, to leave a message or question. You will receive a reply during normal business hours.

SUPPLEMENTARY INFORMATION: The Colorado RACs advise the Secretary of the Interior, through the BLM, on a variety of public-land issues in Colorado. Planned agenda items for the joint RAC meeting include a discussion about the Fall 2020 BLM Colorado district boundaries realignment, RAC overview, RAC roles and responsibilities under the Recreation Enhancement Act, and ethics training. Topics of discussion during the Southwest RAC meeting will include an introduction of members; updates from the Gunnison, Uncompahgre, and Tres Rios Field Offices; and a presentation on Dominguez-Escalante Gunnison River permits and campsites. Topics of discussion during the Northwest RAC meeting will include an introduction of members; updates from the Upper Colorado River District and Northwest District; and a presentation on Sarvis Cabin fees and Upper Colorado River campground and day-use fees. Topics of discussion during the Rocky Mountain RAC meeting will include an introduction of members, and updates from the Royal Gorge, San Luis Valley, and Gunnison Field Offices. Public comment periods will be held during each meeting. Final agendas will be available online 2 weeks prior to the meetings at https://www.blm.gov/get-involved/resource-advisory-council/near-you/colorado.

The May 25, 26, and 27 individual RAC meetings are open to the public. There will also be time, as identified above, allocated for public comments. Depending on the number of people who wish to comment during the public comment period, individual comments may be limited.

Detailed meeting minutes for the RAC meetings will be made available 30 days following the meetings online at https://www.blm.gov/get-involved/resource-advisory-council/near-you/colorado.

(Authority: 43 CFR 1784.4-2)

Jamie E. Connell,
BLM Colorado State Director.

[FR Doc. 2021-07278 Filed 4-8-21; 8:45 am]

BILLING CODE 4310-JB-P